NUCLEAR REGULATORY COMMISSION

[Docket No. 50-271]

Vermont Yankee Nuclear Power Corp; Vermont Yankee Nuclear Power Station; Environmental Assessment and Finding of No Significant Impact

The U.S. Nuclear Regulatory Commission (NRC) is considering issuance of an amendment to Facility Operating License No. DPR-28, issued to Vermont Yankee Nuclear Power Corporation (VYNPC, the licensee), for operation of the Vermont Yankee Nuclear Power Station (Vermont Yankee) located in Windham County, Vermont. Therefore, as required by 10 CFR 51.21, the NRC is issuing this environmental assessment and finding of no significant impact.

Environmental Assessment

Identification of the Proposed Action

The proposed action would amend the Facility Operating License (FOL) by deleting obsolete information, correcting errors, and make administrative changes to enhance the context and provide consistency.

The proposed action is in accordance with the licensee's application for amendment dated April 23, 2001.

The Need for the Proposed Action

When FOL DPR-28 was issued to the licensee and in subsequent amendments, the NRC staff deemed certain issues essential to safety and/or essential to meeting certain regulatory interests. These issues were imposed as license conditions in the FOL. Since the unit was licensed to operate in the 1970s, most of these license conditions have been fulfilled or changed. For the license conditions that have been fulfilled, the licensee proposed to have them deleted from the FOL. The license conditions that are incorrect or need to be updated are being changed.

The licensee also proposed to make changes to correct administrative errors such as words misspelled and deleted documents being referenced and to provide clarifying information such as identifying deleted license conditions with the applicable amendment number and date and providing consistent paragraph identification.

The fire protection license condition will also be changed to reflect an updated list of applicable NRC safety evaluation reports.

Environmental Impacts of the Proposed Action

The NRC has completed its evaluation of the proposed action and concludes that there is no significant environmental impact if the amendment is granted. No changes will be made to the design and licensing basis, and the applicable procedures at Vermont Yankee will remain the same. Other than the administrative changes, no other changes will be made to the FOL, including the Technical Specifications.

The proposed action will not significantly increase the probability or consequences of accidents, no changes are being made in the types of any effluents that may be released off site, and there is no significant increase in occupational or public radiation exposure. Therefore, there are no significant radiological environmental impacts associated with the proposed action.

With regard to potential nonradiological impacts, the proposed action does not have a potential to affect any historic sites. It does not affect nonradiological plant effluents and has no other environmental impact. Therefore, there are no significant nonradiological environmental impacts associated with the proposed action.

Accordingly, the NRC concludes that there are no significant environmental impacts associated with the proposed action.

Environmental Impacts of the Alternatives to the Proposed Action

As an alternative to the proposed action, the staff considered denial of the proposed action (i.e., the “no-action” alternative). Denial of the application would result in no change in current environmental impacts. The environmental impacts of the proposed action and the alternative action are similar.

Alternative Use of Resources

This action does not involve the use of any different resources than those previously considered in the Final Environmental Statement for Vermont Yankee dated July 1972.

Agencies and Persons Consulted

On August 6, 2001, the staff consulted with the Vermont State official, William Sherman of the Department of Public Service, regarding the environmental impact of the proposed action. The State official had no comments.

Finding of No Significant Impact

On the basis of the environmental assessment, the NRC concludes that the proposed action will not have a significant effect on the quality of the human environment. Accordingly, the NRC has determined not to prepare an environmental impact statement for the proposed action.

For further details with respect to the proposed action, see the licensee's letter dated April 23, 2001. Documents may be examined, and/or copied for a fee, at the NRC's Public Document Room (PDR), located at One White Flint North, 11555 Rockville Pike (first floor), Rockville, Maryland. Publicly available records will be accessible electronically from the ADAMS Public Library Component on the NRC web site, http://www.nrc.gov (Public Electronic Reading Room). If you do not have access to ADAMS or if there are problems in accessing the documents located in ADAMS, contact the NRC PDR Reference staff at 1-800-397-4209, 301-415-4737 or by e-mail at pdr@nrc.gov.

Dated at Rockville, Maryland, this 12th day of October 2001.
For the Nuclear Regulatory Commission.
Robert M. Pulsifer,
Project Manager, Section 2, Project Directorate I, Division of Licensing Project Management, Office of Nuclear Reactor Regulation.

[FR Doc. 01-26443 Filed 10-18-01; 8:45 am]

BILLING CODE 7590-01-P